DEPARTMENT OF THE INTERIOR

National Park Service

Announcement of the National Park Service Subsistence Resource Commission Meetings Within the Alaska Region

AGENCY: National Park Service, Interior.

ACTION: Announcement of the National Park Service Subsistence Resource Commission meetings within the Alaska Region.

SUMMARY: The National Park Service (NPS) announces the Subsistence Resource Commission (SRC) meeting schedule for the following areas: Aniakchak National Monument, Lake Clark National Park and Wrangell-St. Elias National Park. The purpose of each meeting is to develop and continue work on subsistence hunting program recommendations and other related subsistence management issues. Each meeting is open to the public and will have time allocated for public testimony. The public is welcomed to present written or oral comments to the SRC.

The NPS SRC program is authorized under title VIII, section 808, of the Alaska National Interest Lands Conservation Act, Public Law 96-487, to operate in accordance with the provisions of the Federal Advisory Committee Act. Draft meeting minutes will be available upon request from each Superintendent for public inspection approximately six weeks after each meeting.

Dates: The Aniakchak National Monument SRC meeting will be held from 9 a.m. to 5 p.m., Tuesday, February 13, 2007.

Location: The meeting will be held at the COMSERFAC conference room in the FAA housing facility in King Salmon, Alaska.

Dates: The Lake Clark National Park SRC meeting will be held from 1 p.m. to 5 p.m., Friday, February 16, 2006.

Location: The meeting will be held at the NPS Port Alsworth Visitor Center in Port Alsworth, Alaska.

FOR FURTHER INFORMATION CONTACT: Mary McBurney, Subsistence Program Manager, 2181 Kachemak Drive, Homer, Alaska. Telephone: (907) 271-3751. Fax: (907) 271-3707. E-mail: Mary_McBurney @nps.gov.

Dates: The Wrangell-St. Elias National Park SRC meeting will be held from 9 a.m. to 5 p.m. on Wednesday, February 21 and Thursday, February 22, 2006.

Location: The meeting will be held at the Gulkana Village Hall in Gulkana, Alaska.

FOR FURTHER INFORMATION CONTACT: Barbara Cellarius, Subsistence Manager/Cultural Anthropologist, Wrangell-St. Elias National Park and Preserve, P.O. Box 439, Copper Center, AK 99573. Telephone: (907) 822-7236. Fax: (907) 822-7259. E-mail: Barbara_Cellarius@nps.gov.

SUPPLEMENTARY INFORMATION: SRC meeting locations and dates may need to be changed based on weather or local circumstances. If meeting dates and locations are changed notice of each meeting will be published in local newspapers and announced on local radio stations prior to the meeting dates.

The agendas for each meeting include the following:

1. Call to order (SRC Chair).

2. SRC Roll Call and Confirmation of Quorum.

3. SRC Chair and Superintendent's Welcome and Introductions.

4. Review and Approve Agenda.

5. Review and adopt minutes from last meeting.

6. Status of SRC Membership—If Needed, Election of Chair and Vice Chair.

7. Commission Member Reports.

8. Superintendent and NPS Staff Reports.

9. Federal Subsistence Board Update.

a. Wildlife Proposals.

b. Fisheries Proposals.

10. Board of Game and Board of Fisheries Update.

11. New Business.

12. Agency and Public Comments.

13. SRC Work Session. Prepare correspondence and hunting program recommendations.

14. Set time and place of next SRC meeting.

Adjournment.

Marcia Blaszak,
Director, Alaska Region.

[FR Doc. E7-486 Filed 1-16-07; 8:45 am]

BILLING CODE 4310-EF-P